FARM CREDIT ADMINISTRATION

12 CFR Parts 652 and 655

RIN 3052-AC17

Federal Agricultural Mortgage Corporation Funding and Fiscal Affairs; Federal Agricultural Mortgage Corporation Disclosure and Reporting Requirements; Risk-Based Capital Requirements; Effective Date

AGENCY: Farm Credit Administration.

ACTION: Notice of effective date.

SUMMARY: The Farm Credit Administration (FCA) published a final rule under parts 652 and 655 on December 26, 2006 (71 FR 77247). This final rule is intended to more accurately reflect risk in the risk-based capital stress test (RBCST) in order to improve the RBCST's output—Federal Agricultural Mortgage Corporation's regulatory minimum risk-based capital level. In accordance with 12 U.S.C. 2252, the effective date of the final rule is 30 days from the date of publication in the Federal Register during which either or both Houses of Congress are in session. Based on the records of the sessions of Congress, the effective date of the regulations is March 31, 2007.

DATES: Effective Date: The regulation amending 12 CFR parts 652 and 655, published on December 26, 2006 (71 FR 77247) is effective March 31, 2007.

FOR FURTHER INFORMATION CONTACT: Joseph T. Connor, Associate Director for Policy and Analysis, Office of Secondary Market Oversight, Farm Credit Administration, McLean, VA 22102-5090, (703) 883-4280, TTY (703) 883-4434; or Rebecca S. Orlich, Senior Counsel, Office of General Counsel, Farm Credit Administration, McLean, VA 22102-5090, (703) 883-4020, TTY (703) 883-4020.

(12 U.S.C. 2252(a)(9) and (10))

Dated: March 28, 2007.
Roland E. Smith,
Secretary, Farm Credit Administration Board.

[FR Doc. E7-6076 Filed 4-2-07; 8:45 am]

BILLING CODE 6705-01-P